DEPARTMENT OF THE INTERIOR

Fish and Wildlife Service

[Docket No. FWS-R7-ES-2024-0004; FXES111607MRG01-245-FF07CAMM00]

Marine Mammal Protection Act; Permit Applications and Issuances

AGENCY: Fish and Wildlife Service, Interior.

ACTION: Notice of receipt of permit applications; notice of issuance of permits.

SUMMARY: We, the U.S. Fish and Wildlife Service (Service), invite public comment on applications for permits to conduct certain activities involving marine mammals for which the Service has jurisdiction under the Marine Mammal Protection Act (MMPA). In addition, we announce permits that we have issued recently in response to prior applications.

DATES: We must receive comments on the new permit applications by June 3, 2024.

ADDRESSES:

Obtaining Documents:

• Application Materials: The applications, application supporting materials, and any comments and other materials that we receive are available for public inspection at https://www.regulations.gov in Docket No. FWS-R7-ES-2024-0004.

• Issued Permits: To access materials pertaining to the permits we have issued, see Permits Issued by the Service under SUPPLEMENTARY INFORMATION.

Submitting Comments on the Applications: You may submit comments containing written data or views concerning the taking or importation proposed in each application by one of the following methods:

• Internet: https://www.regulations.gov. Search for and submit comments on Docket No. FWS-R7-ES-2024-0004.

• U.S. mail: Public Comments Processing, Attn: Docket No. FWS-R7-ES-2024-0004; U.S. Fish and Wildlife Service Headquarters, MS: PRB/3W; 5275 Leesburg Pike; Falls Church, VA 22041-3803.

For more information, see Public Comment Procedures under SUPPLEMENTARY INFORMATION.

FOR FURTHER INFORMATION CONTACT: Charles Hamilton, via email at r7mmmregulatory@fws.gov or by telephone at 907-786-3800 or 1-800-362-5148. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Background

With some exceptions, the Marine Mammal Protection Act of 1972, as amended (MMPA; 16 U.S.C. 1361 et seq.), prohibits the take and importation of marine mammals and marine mammal products absent Federal authorization. In carrying out our responsibilities under the MMPA, we, the U.S. Fish and Wildlife Service (Service), may authorize such activities via permits after receipt of an application and verification that MMPA statutory and regulatory requirements are met.

Section 104(c) of the MMPA specifies the conditions for authorizing the taking or importation of a marine mammal for purposes of scientific research, public display, or enhancing the survival or recovery of a species or stock under the MMPA.

This notice provides information about two aspects of the MMPA permitting process: application and issuance. At section II, we provide the public with notice of and the opportunity to comment on applications that we have received from entities or individuals to conduct certain activities with marine mammals for which the Service has jurisdiction under the MMPA. At section III, we announce recently issued MMPA permits to entities or individuals in response to prior applications.

II. Applications Available for Public Review

To help us carry out our conservation responsibilities for affected species, and in consideration of section 104(c) of the MMPA, we invite the public and local, State, Tribal, and Federal agencies to comment on the applications listed below before final action is taken. Concurrent with publishing this notice in the Federal Register, we are forwarding copies of these marine mammal applications to the Marine Mammal Commission and the Committee of Scientific Advisors for their review.

A. Permit Applications Received

We invite comments on the following applications:

Applicant: Matson's Laboratory, Manhattan, MT; Permit No. PER6413229

The applicant requests a permit to import teeth from up to 200 legally harvested Atlantic walrus (Odobenus rosmarus rosmarus) from Canada. After analysis, Matson's Lab will provide information on animal ages to be used by governmental authorities in Canada to inform population abundance estimation and survival analyses, along with ensuring that legal harvest of walrus is sustainable and well managed. Once the laboratory analysis is complete, samples will be exported (returned) to Canada. This notification covers activities to be conducted by the applicant over a 5-year period.

Applicant: Jason Roehing/MeatEater Inc., Bozeman, MT, Permit No. 5955318

The applicant requests a permit to conduct commercial photography and filming of northern sea otters (Enhydra lutris kenyoni) in the wild. This notification covers activities to be conducted by the applicant during the period March through May 2024.

Applicant: North Slope Borough Department of Wildlife, Utqiagvik, AK, Permit No. 0046206

The applicant requests a reissuance of their scientific research permit to (1) collect tissue samples from dead polar bears (Ursus maritimus) and Pacific walrus (Odobenus rosmarus rosmarus); (2) conduct aerial surveys to detect carcasses of polar bears and Pacific walrus; and (3) conduct noninvasive sampling for eDNA. This notification covers activities to be conducted by the applicant over a 5-year period.

Applicant: U.S. Fish and Wildlife Service, Marine Mammals Management Office, Anchorage, AK, Permit No. MA82088B-1

The applicant requests an amendment to their scientific research permit to allow the take of polar bears (Ursus martimus) by disturbance. The research will be used to evaluate the distance at which wild polar bears on the Beaufort seashore respond to boat traffic. This notification covers activities to be conducted by the applicant over a 5-year period.

Applicant: U.S. National Park Service, Juneau, AK, Permit No. 14762C

The applicant requests a reissuance of their scientific research permit to (1) conduct aerial photographic surveys to estimate the spatial distribution and abundance of sea otters (Enhydra lutris kenyoni) and (2) conduct land-based foraging observations of sea otters in the Glacier Bay, Icy Strait, Cross Sound, outer coast of Glacier Bay, and Yakutat areas of southeastern Alaska. This notification covers activities to be conducted by the applicant over a 5-year period.

Applicant: Windfall Films, London, United Kingdom, Permit No. 9061181

The applicant requests a permit to conduct commercial photography and filming of Pacific walrus (Odobenus rosmarus divergens) in the wild. This notification covers activities to be conducted by the applicant during the period May through October 2024.

B. Public Comment Procedures

1. How do I comment on permit applications?

Before issuing any requested permit, we will take into consideration any information that we receive during the public comment period.

You may submit your comments and materials by one of the methods in ADDRESSES. We will not consider comments sent by email, or to an address not in ADDRESSES. We will not consider or include in our administrative record comments that we receive after the close of the comment period (see DATES).

When submitting comments, please specify the name of the applicant and the permit number at the beginning of your comment. Provide sufficient information to allow us to authenticate any scientific or commercial data you include. The comments and recommendations that will be most useful and likely to influence agency decisions are: (a) Those supported by quantitative information or studies; and (b) those that include citations to, and analyses of, the applicable laws and regulations.

2. May I review comments submitted by others?

You may view public comments at https://www.regulations.gov unless our allowing so would violate the Privacy Act (5 U.S.C. 552a) or other Federal law.

3. Who will see my comments?

If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

C. Next Steps for Submitted Applications

After the comment period closes, we will make decisions regarding permit issuance. If we issue permits to any of the applicants listed above in this notice, we will publish a subsequent notice in the Federal Register. You may locate the notice announcing the permit issuance by searching https://www.regulations.gov for the permit number listed above in this document. For example, to find information about the potential issuance of Permit No. 12345A, you would go to https://www.regulations.gov and search for “12345A”.

III. Permits Issued by the Service

We have issued permits to conduct certain activities involving marine mammals and marine mammal products in response to prior permit applications that we received. This notice informs the public that the Service has issued the permits listed in Table 1 below.

The permittees' original permit application materials, along with public comments we received during public comment periods for the applications, are available for review. To locate the application materials and received comments, go to https://www.regulations.gov and search for the appropriate permit number (e.g., PER12345) or docket number (e.g., FWS-HQ-IA-2022-0001) provided in table 1.

Table 1—MMPA Permits Recently Issued
Permit No. | Applicant | Permit issuance date | Docket No.
PER0030527 | U.S. Geological Survey | 10/05/2023 | FWS-HQ-IA-2022-0007
PER690038 | U.S. Geological Survey | 10/19/2023 | FWS-HQ-IA-2018-0083
PER84399D | NOAA Fisheries/AFSC/Marine Mammal Laboratory | 10/30/2023 | FWS-HQ-IA-2022-0102
PER0032559 | Alaska Veterinary Pathology Services | 01/04/2024 | FWS-HQ-IA-2022-0138
PER0040980 (Legacy PRT #84799B) | Texas A&M University | 01/12/2024 | FWS-HQ-IA-2022-0138

IV. Authority

We issue this notice under the authority of the Marine Mammal Protection Act of 1972, as amended (16 U.S.C. 1361 et seq.), and its implementing regulations.

Peter Fasbender,
Assistant Regional Director for Fisheries and Ecological Services, Alaska Region.

[FR Doc. 2024-09479 Filed 5-1-24; 8:45 am]

BILLING CODE 4333-15-P